DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-67776, dated October 14, 1980, and corrected at 45 FR 69296, October 20, 1980, as amended most recently at 72 FR 35491-35492, dated June 28, 2007) is amended to reflect the establishment of the Extramural Research Program Office within the National Center for Chronic Disease Prevention and Health Promotion, Coordinating Center for Health Promotion, Centers for Disease Control and Prevention.

Section C-B, Organization and Functions, is hereby amended as follows: After the functional statement for the Program Services Branch (CUC13), Office of the Director (CUC1), National Center for Chronic Disease Prevention and Health Promotion (CUC), insert the following:

Extramural Research Program Office (CUC18). The Extramural Research Program Office (ERPO) plans, develops, coordinates, and evaluates extramural research activities in cooperation with centers, divisions, and offices within the Coordinating Center for Health Promotion. In carrying out its mission, the ERPO: (1) Coordinates, monitors, and directs the extramural research program which is designed to address center priorities; (2) provides scientific leadership in the processes supporting extramural research of the center; (3) works with National Centers to prepare and promote initiatives to stimulate extramural research in relevant priority areas; (4) coordinates and conducts in-depth external peer review and secondary program relevance review of extramural research applications by use of consultant expert panels; (5) makes recommendations to the center directors on award selections on the basis of secondary reviews; (6) staff members serve as the program officials and work with CDC grants management officers, and the Procurement and Grants Office to implement and monitor the scientific, technical, and administrative aspects of awards; (7) facilitates scientific collaborations between external and internal investigators; (8) evaluates extramural research progress and impact and disseminates findings; and (9) assists Office of the Chief Science Officer, CDC, in developing extramural research policies and oversees the implementation of those policies within the center.

Dated: June 28, 2007.
William H. Gimson,
Chief Operating Officer, Centers for Disease Control and Prevention (CDC).

[FR Doc. 07-3427 Filed 7-12-07; 8:45 am]

BILLING CODE 4160-18-M